DEPARTMENT OF THE INTERIOR

Bureau of Land Management

[WO300 L91310000 PP0000]

Renewal of Approved Information Collection

AGENCY: Bureau of Land Management, Interior.

ACTION: 60-Day notice and request for comments.

SUMMARY: In compliance with the Paperwork Reduction Act, the Bureau of Land Management (BLM) invites public comments on, and plans to request approval to continue, the collection of information from those who wish to participate in the exploration, development, production, and utilization of geothermal resources on BLM-managed public lands, and on lands managed by other Federal agencies. The Office of Management and Budget (OMB) has assigned control number 1004-0132 to this information collection.

DATES: Please submit comments on the proposed information collection by October 28, 2013.

ADDRESSES: Comments may be submitted by mail, fax, or electronic mail.

Mail: U.S. Department of the Interior, Bureau of Land Management, 1849 C Street NW., Room 2134LM, Attention: Jean Sonneman, Washington, DC 20240.

Fax: to Jean Sonneman at 202-245-0050.

Electronic mail: Jean_Sonneman@blm.gov.

Please indicate “Attn: 1004-0132” regardless of the form of your comments.

FOR FURTHER INFORMATION CONTACT: Allen McKee, at 801-539-4045. Persons who use a telecommunication device for the deaf (TDD) may call the Federal Information Relay Service (FIRS) at 1-800-877-8339, to leave a message for Mr. McKee.

SUPPLEMENTARY INFORMATION: OMB regulations at 5 CFR 1320, which implement provisions of the Paperwork Reduction Act, 44 U.S.C. 3501-3521, require that interested members of the public and affected agencies be given an opportunity to comment on information collection and recordkeeping activities (see 5 CFR 1320.8(d) and 1320.12(a)). This notice identifies an information collection that the BLM plans to submit to OMB for approval. The Paperwork Reduction Act provides that an agency may not conduct or sponsor a collection of information unless it displays a currently valid OMB control number. Until OMB approves a collection of information, you are not obligated to respond.

The BLM will request a 3-year term of approval for this information collection activity. Comments are invited on: (1) The need for the collection of information for the performance of the functions of the agency; (2) the accuracy of the agency's burden estimates; (3) ways to enhance the quality, utility and clarity of the information collection; and (4) ways to minimize the information collection burden on respondents, such as use of automated means of collection of the information. A summary of the public comments will accompany our submission of the information collection requests to OMB.

Before including your address, phone number, email address, or other personal identifying information in your comment, you should be aware that your entire comment—including your personal identifying information—may be made publicly available at any time. While you can ask us in your comment to withhold your personal identifying information from public review, we cannot guarantee that we will be able to do so.

The following information is provided for the information collection:

Title: Geothermal Resource Leasing and Geothermal Resource Unit Agreements (43 CFR Parts 3200 and 3280).

OMB Control Number: 1004-0132.

Summary: The BLM collects the information in order to decide whether or not to approve geothermal resource leases and unit agreements, process nominations for geothermal lease sales, and monitor compliance with granted approvals.

Frequency of Collection: On occasion, except for Monthly Report of Geothermal Operations (Form 3260-5), which is required monthly.

Forms:

• Form 3200-9, Notice of Intent to Conduct Geothermal Resource Exploration Operations;

• Form 3203-1, Nomination of Lands for Competitive Geothermal Leasing;

• Form 3260-2, Geothermal Drilling Permit;

• Form 3260-3, Geothermal Sundry Notice;

• Form 3260-4, Geothermal Well Completion Report; and

• Form 3260-5, Monthly Report of Geothermal Operations.

Description of Respondents: Those who wish to participate in the exploration, development, production, and utilization of geothermal resources on BLM-managed public lands, and on lands managed by other Federal agencies.

Estimated Annual Responses: 908.

Estimated Annual Burden Hours: 5,404.

Estimated Annual Non-Hour Costs: $77,110.

The estimated annual burdens to respondents are itemized in the following table:

A. | B. | C. | D.
Type of response | Number of responses | Hours per response | Total hours
43 CFR subpart 3202 Lessee Qualifications | 75 | 1 | 75
43 CFR subpart 3203 Nomination of Lands for Competitive Leasing Form 3203-1 | 80 | 1 | 80
43 CFR subpart 3204 Noncompetitive Leasing Other Than Direct Use Leases | 50 | 4 | 200
43 CFR subpart 3205 Direct Use Leasing | 10 | 10 | 100
43 CFR subpart 3206 Lease Issuance | 155 | 1 | 155
43 CFR subpart 3207 Lease Terms and Extensions | 50 | 1 | 50
43 CFR subpart 3210 Lease Consolidation | 50 | 1 | 50
43 CFR subpart 3212 Lease Suspensions and Royalty Rate Reductions | 10 | 40 | 400
43 CFR subpart 3213 Lease Relinquishment, Termination, Cancellation, and Reinstatement | 10 | 40 | 400
43 CFR subpart 3217 Cooperative Agreements | 10 | 40 | 400
43 CFR subpart 3251 Notice of Intent to Conduct Geothermal Exploration Activities Form 3200-9 | 12 | 8 | 96
43 CFR subpart 3252 Geothermal Sundry Notice Form 3260-3 | 100 | 8 | 800
43 CFR subpart 3253 Reports: Exploration Operations | 12 | 8 | 96
43 CFR subpart 3256 Exploration Operations Relief and Appeals | 10 | 8 | 80
43 CFR subpart 3261 Geothermal Drilling Permit Form 3260-2 | 60 | 8 | 480
43 CFR subpart 3264 Geothermal Well Completion Report Form 3260-4 | 12 | 10 | 120
43 CFR subpart 3272 Utilization Plans and Facility Construction Permits | 10 | 10 | 100
43 CFR subpart 3273 Site License Application | 10 | 10 | 100
43 CFR subpart 3273 Relinquishment, Assignment, or Transfer of a Site License | 22 | 1 | 22
43 CFR subpart 3274 Commercial Use Permit | 10 | 10 | 100
43 CFR subpart 3276 Monthly Report of Geothermal Operations Form 3260-5 | 120 | 10 | 1200
43 CFR subpart 3281 Unit Agreements | 10 | 10 | 100
43 CFR subpart 3282 Participating Area | 10 | 10 | 100
43 CFR subpart 3283 Unit Agreement Modifications | 10 | 10 | 100
Totals | 908 |  | 5,404

Jean Sonneman,
Bureau of Land Management, Information Collection Clearance Officer.

[FR Doc. 2013-21096 Filed 8-28-13; 8:45 am]

BILLING CODE 4310-84-P